DEPARTMENT OF ENERGY

Federal Energy Regulatory Commission

Combined Notice of Filings

Take notice that the Commission has received the following Natural Gas Pipeline Rate and Refund Report filings:

Filings Instituting Proceedings

Docket Numbers: RP14-36-000.

Applicants: Texas Eastern Transmission, LP.

Description: PSEG ERT 11-01-2013 Negotiated Rate (TIME II) to be effective 11/1/2013.

Filed Date: 10/15/13.

Accession Number: 20131015-5216.

Comments Due: 5 p.m. ET 10/28/13.

Docket Numbers: RP14-37-000.

Applicants: Iroquois Gas Transmission System, L.P.

Description: 10/15/13 Negotiated Rates—Barclays (RTS) 7055-33, 34, 36, 37, 39, 40, 41 & 42 to be effective 11/1/2013.

Filed Date: 10/15/13.

Accession Number: 20131015-5237.

Comments Due: 5 p.m. ET 10/28/13.

Docket Numbers: RP14-38-000.

Applicants: Iroquois Gas Transmission System, L.P.

Description: 10/15/13 Negotiated Rates—Cargill Incorporated (RTS) 3085-15 & 16 to be effective 11/1/2013.

Filed Date: 10/15/13.

Accession Number: 20131015-5238.

Comments Due: 5 p.m. ET 10/28/13.

Docket Numbers: RP14-39-000.

Applicants: Iroquois Gas Transmission System, L.P.

Description: 10/15/13 Negotiated Rates—Emera Energy Services, Inc. (RTS) 2715-03 & 04 to be effective 11/1/2013.

Filed Date: 10/15/13.

Accession Number: 20131015-5239.

Comments Due: 5 p.m. ET 10/28/13.

Docket Numbers: RP14-40-000.

Applicants: Iroquois Gas Transmission System, L.P.

Description: 10/15/13 Negotiated Rates—JP Morgan Ventures Energy Corp (RTS)—6025-26 to be effective 11/1/2013.

Filed Date: 10/15/13.

Accession Number: 20131015-5240.

Comments Due: 5 p.m. ET 10/28/13.

Docket Numbers: RP14-41-000.

Applicants: Iroquois Gas Transmission System, L.P.

Description: 10/15/13 Negotiated Rates—JP Morgan Ventures Energy Corp (RTS)—6025-38 to be effective 11/1/2013.

Filed Date: 10/15/13.

Accession Number: 20131015-5277.

Comments Due: 5 p.m. ET 10/28/13.

Docket Numbers: RP14-42-000.

Applicants: Iroquois Gas Transmission System, L.P.

Description: Iroquois Gas Transmission System, L.P. submits tariff filing per 154.204: 10/15/13 Negotiated Rates—Emera Energy Services, Inc. (RTS) 2715-11 & 12 to be effective 11/1/2013.

Filed Date: 10/15/13.

Accession Number: 20131015-5397.

Comments Due: 5 p.m. ET 10/28/13.

Docket Numbers: RP14-43-000.

Applicants: Tennessee Gas Pipeline Company, L.L.C.

Description: Tennessee Gas Pipeline Company, L.L.C. submits tariff filing per 154.204: Rate Schedule PAL Flexibility to be effective 11/15/2013.

Filed Date: 10/15/13.

Accession Number: 20131015-5429.

Comments Due: 5 p.m. ET 10/28/13.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2013.
Nathaniel J. Davis, Sr.,
Deputy Secretary.

[FR Doc. 2013-24615 Filed 10-21-13; 8:45 am]

BILLING CODE 6717-01-P